DEPARTMENT OF LABOR

Employment and Training Administration

[TA-W-41,392]

White Mountain Stitching Company, Littleton, NH; Amended Certification Regarding Eligibility To Apply for Worker Adjustment Assistance

In accordance with section 223 of the Trade Act of 1974 (19 U.S.C. 2273), the Department of Labor issued a Certification of Eligibility to Apply for Worker Adjustment Assistance on July 29, 2002, applicable to workers of White Mountain Stitching Company, Littleton, New Hampshire. The notice was published in the Federal Register on August 9, 2002 (67 FR 51870).

At the request of the State agency, the Department reviewed the certification for workers of the subject firm. The workers were engaged in the production of wallets and handbags.

New information provided by the State shows that workers separated from employment at White Mountain Stitching Company had their wages reported under a separate unemployment insurance (UI) tax account for ADP Total Source III, Diamond Bar, California.

Accordingly, the Department is amending the certification to properly reflect this matter.

The intent of the Department's certification is to include all workers of White Mountain Stitching Company who were adversely affected by increased imports.

The amended notice applicable to TA-W-41,392 is hereby issued as follows:

All workers of White Mountain Stitching Company, Littleton, New Hampshire, including those whose wages are reported to ADP Total Source III, Diamond Bar, California, who became totally or partially separated from employment on or after March 21, 2001, through July 29, 2004, are eligible to apply for adjustment assistance under Section 223 of the Trade Act of 1974.

Signed at Washington, DC this 9th day of October, 2002.
Linda G. Poole,
Certifying Officer, Division of Trade Adjustment Assistance.

[FR Doc. 02-26754 Filed 10-21-02; 8:45 am]

BILLING CODE 4510-30-P